DEPARTMENT OF COMMERCE

Foreign-Trade Zones Board

[Order No. 1807]

Approval for Manufacturing Authority; Foreign-Trade Zone 177; Best Chair, Inc., d/b/a Best Home Furnishings, Inc. (Upholstered Furniture); Ferdinand, Cannelton, and Paoli, IN

Pursuant to its authority under the Foreign-Trade Zones Act of June 18, 1934, as amended (19 U.S.C. 81a-81u), the Foreign-Trade Zones Board (the Board) adopts the following Order:

Whereas, the Ports of Indiana, grantee of Foreign-Trade Zone 177, has requested manufacturing authority on behalf of Best Chair, Inc., d/b/a Best Home Furnishings, Inc., within FTZ 177 in Ferdinand, Cannelton, and Paoli, Indiana (FTZ Docket 22-2011, filed 3-17-2011);

Whereas, notice inviting public comment has been given in the Federal Register (76 FR 16379, 3-23-2011) and the application has been processed pursuant to the FTZ Act and the Board's regulations; and,

Whereas, the Board adopts the findings and recommendations of the examiner's report, and finds that the requirements of the FTZ Act and Board's regulations would be satisfied, and that the proposal would be in the public interest if approval were subject to certain restrictions and conditions;

Now, therefore, the Board hereby orders:

The application for manufacturing authority under zone procedures within FTZ 177 on behalf of Best Chair, Inc., d/b/a Best Home Furnishings, Inc. (Best Home), as described in the application and Federal Register notice, is approved, subject to the FTZ Act and the Board's regulations, including Section 400.28, and further subject to the following restrictions and conditions:

1. The annual quantitative volume of foreign micro-denier suede upholstery fabric finished with a hot caustic soda solution that Best Home may admit to FTZ 177 under nonprivileged foreign status (19 CFR § 146.42) is limited to 2.28 million square yards.

2. Best Home must admit all foreign-origin upholstery fabrics other than micro-denier suede fabric finished with a hot caustic soda solution to the zone under domestic (duty-paid) status (19 CFR 146.43).

3. For the purpose of monitoring by the FTZ Staff, Best Home shall submit additional operating information to supplement its annual report data.

4. The authority for Best Home shall remain in effect for a period of five years from the date of approval by the FTZ Board.

Signed at Washington, DC, this 31st day of January 2012.
Paul Piquado,
Assistant Secretary for Import Administration, Alternate Chairman, Foreign-Trade Zones Board.

[FR Doc. 2012-2917 Filed 2-7-12; 8:45 am]

BILLING CODE P